DEPARTMENT OF DEFENSE

Department of the Navy

[Docket ID USN-2008-0058]

Privacy Act of 1974; System of Records

AGENCY: U.S. Marine Corps, DoD.

ACTION: Notice to Add a System of Records.

SUMMARY: The U.S. Marine Corps is proposing to add a new system of records notice to its existing inventory of records systems subject to the Privacy Act of 1974, (5 U.S.C. 552a), as amended.

DATES: This proposed action will be effective without further notice on December 12, 2008 unless comments are received which result in a contrary determination.

ADDRESSES: Send comments to Headquarters, U.S. Marine Corps, FOIA/PA Section (ARSF), 2 Navy Annex, Room 3134, Washington, DC 20380-1775.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from the address above.

The proposed system report, as required by 5 U.S.C. 552a, of the Privacy Act of 1974, as amended, was submitted on October 30, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 3, 2008.
Morgan E. Frazier,
Alternate OSD Federal Register Liaison Officer, Department of Defense.

M01754-5

System name:

Marine Corps Family Readiness Mass Communication Records.

System location:

Primary location: The Marine Corps Community Services (MCCS) contractor secured site—3n Global, Incorporated, 505 N. Brand Boulevard, Suite 700, Glendale, CA 91203.

Secondary locations: Commandant of the Marine Corps, Headquarters, U.S. Marine Corps, Marine Corps Community Services, 3280 Russell Road, MCB Quantico, VA 22134-5009, and Marine Corps Community Services (MCCS) offices located at Marine Corps installations. Official MCCS offices mailing addresses are published on the MCCS Web site at http://www.usmc-mccs.org/downloads/mccsdir.pdf.

Categories of individuals covered by the system:

Active Duty and Reserve military officer and enlisted personnel assigned to Marine Corps units/activities, dependents, and other individuals designated as personal contacts.

Categories of records in the system:

Names, home addresses, work addresses, contact telephone numbers, contact e-mail addresses, relationship information, and the last four digits of the military members' Social Security Number (SSN).

Authority for maintenance of the system:

10 U.S.C. 5013; Secretary of the Navy; 10 U.S.C. 5041, Headquarters, U.S. Marine Corps; MCO 1754.6A and NAVMC 1754.6A, Marine Corps Family Team Building; and E.O. 9397 (SSN).

Purpose(s):

To effect clear and direct communication between Marine Corps family readiness officers and military members, their family members, and other individuals designated by the military member, in order to ensure family preparedness and readiness before, during, and after a military member's deployment and related absence from the family. Note that this tool will not be used to communicate casualty notification or assistance information.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: The ‘Blanket Routine Uses’ that appear at the beginning of the Navy's compilation of systems of records notices apply to this system.

Policies and practices for storing, retrieving, accessing, retaining, and disposing of records in the system:

Storage:

Paper records and electronic storage media.

Retrievability:

Name and last four digits of the military member's SSN or the name and relationship for individuals other than military members.

Safeguards:

Password controlled system, file, and element access based on predefined need-to-know basis. Computer facilities and terminals are located in restricted areas accessible only to authorized persons that are properly screened, cleared and trained. Manual records and computer printouts are available only to authorized personnel having a need-to-know. Data is encrypted while at rest and during transmission.

Physical access to terminals, terminal rooms, buildings and activities' grounds are controlled by locked terminals and rooms, guards, personnel screening, or visitor registers.

Retention and disposal:

Per SECNAV M-5210.1, disposition for these records is unauthorized. Records will not be destroyed until a disposition is approved.

System manager(s) and address:

Policy Manager: Commandant of the Marine Corps, Headquarters, U.S. Marine Corps, Marine Corps Community Services, 3280 Russell Road, MCB Quantico, VA 22134-5009.

Secondary Managers: Directors of Marine Corps Community Services (MCCS) offices. Official mailing addresses are published on the MCCS Web site at http://www.usmc-mccs.org/downloads/mccsdir.pdf.

Notification procedure:

Individuals seeking to determine whether information about themselves is contained in this system should address written inquiries to the MCCS office servicing the activity where the Marine is currently stationed. Official mailing addresses are published on the MCCS Web site at http://www.usmc-mccs.org/downloads/mccsdir.pdf.

The written inquiry should include the individual's full name, the last four digits of their Social Security Number (SSN), and written signature.

Record access procedure:

Individuals seeking to access information about themselves contained in this system should address written inquiries to the MCCS office servicing the activity where the Marine is currently stationed. Official mailing addresses are published on the MCCS Web site at http://www.usmc-mccs.org/downloads/mccsdir.pdf.

The written inquiry should include the individual's full name, the last four digits of their Social Security Number (SSN), and written signature.

Contesting record procedures:

The Navy's rules for accessing records, and for contesting contents and appealing initial agency determinations are published in Secretary of the Navy Instruction 5211.5; 32 CFR part 701; or may be obtained from the system manager.

Record source categories:

Individuals, military personnel record files, and/or the Marine Corps Total Force System database.

Exemptions claimed for the system:

None.

[FR Doc. E8-26778 Filed 11-10-08; 8:45 am]

BILLING CODE 5001-06-P